ENVIRONMENTAL PROTECTION AGENCY

[FRL-6930-1]

Agency Information Collection Activities: Submission for OMB Review; Comment Request; Information Collection Request for the State Source Water Assessment and Protection Programs 1997 Guidance

AGENCY: Environmental Protection Agency (EPA).

ACTION: Notice.

SUMMARY: In compliance with the Paperwork Reduction Act (44 U.S.C. 3501 et seq.), this document announces that the following continuing Information Collection Request (ICR) has been forwarded to the Office of Management and Budget (OMB) for review and approval: The State Source Water Assessment and Protection Programs 1997 Guidance; EPA ICR #1816.02; OMB Control #2040-0197; expiration December 31, 2000. The ICR describes the nature of the information collection and its expected burden and cost; where appropriate, it includes the actual data collection instrument.

DATES: Comments must be submitted on or before February 5, 2001.

ADDRESSES: Send comments, referencing EPA ICR No. 1816.02 and OMB Control Number 2040-0197, to the following addresses: Sandy Farmer, U.S. Environmental Protection Agency Collection Strategies Division (2822), 1200 Pennsylvania Ave, NW, Washington, DC 20460; and to Office of Information and Regulatory Affairs, Office of Management and Budget (OMB), Attention: Desk Officer for EPA, 725 17th Street, NW, Washington, DC 20503.

FOR FURTHER INFORMATION CONTACT: For a copy of the ICR contact Sandy Farmer EPA by phone at (202) 260-2740, by E-mail at farmer.sandy@epamail.epa.gov, or download off the Internet at http://www.epa.gov/icr and refer to EPA ICR No. 1816.02. For technical questions about the ICR contact Roy Simon, (202) 260-7777.

SUPPLEMENTARY INFORMATION:

Title: State Source Water Assessment and Protection Programs 1997 Guidance; OMB Control #2040-0197; EPA ICR #1816.02; expiring December 31, 2000. This renewal is a request for extension of a currently approved collection.

Abstract: Section 1453(a)(3) of the Safe Drinking Water Act Amendments of 1996 required States to submit a Source Water Assessment Program (SWAP) within 18 months after the guidance was issued, on or before August 6, 1997. These SWAP's describe how a State will delineate source water protection areas, conduct contamination source inventories and susceptibility determinations, makes the assessments available to the public, implement a Source Water Protection Program. A State must develop a SWAP program with public participation.

Once a State program is approved by EPA, the State has two years to complete the source water assessment for the public water systems within their borders. Section 1453(a)(4) of the SDWA Amendments of 1996 allows a State to request an extension of up to 18 months to complete the assessments. This final phase of this ICR will focus on the years 2000-2002 of the SWAP program, including completing the assessments, and State reporting of data on the required assessments to EPA.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and,

(iv) Minimize the burden of the collection of information on those who are to respond, including through the use of appropriate automated electronic, mechanical, or other technological collection techniques or other forms of information technology, e.g., permitting electronic submission of responses.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on June 16, 2000; No comments were received.

Burden Statement: The annual public reporting and recordkeeping burden for this collection of information is estimated to average 50,169 hours per response. Burden means the total time, effort, or financial resources expended by persons to generate, maintain, retain, or disclose or provide information to or for a Federal agency. This includes the time needed to implement the source water assessments; review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: States, Puerto Rico and District of Columbia.

Estimated Number of Respondents: 52.

Frequency of Response: Annually.

Estimated Total Annual Hour Burden: 2,608,787 hours.

Estimated Total Annualized Capital and Operating & Maintenance Cost Burden: $7,101,564.00.

Send comments on the Agency's need for this information, the accuracy of the provided burden estimates, and any suggested methods for minimizing respondent burden, including through the use of automated collection techniques to the addresses listed above. Please refer to EPA ICR No. 1816.02 and OMB Control No. 2040-0197 in any correspondence.

Dated: December 29, 2000.
Oscar Morales,
Director, Collection Strategies Division.

[FR Doc. 01-363 Filed 1-4-01; 8:45 am]

BILLING CODE 6560-50-P